DEPARTMENT OF LABOR

Employment and Training Administration

[TA-W-54,408]

Morganite, Inc., Commutator Division, Now Known as Energy Conversion Systems Holdings LLC, Commutator Division, Dunn, NC; Amended Certification Regarding Eligibility To Apply for Worker Adjustment Assistance

In accordance with Section 223 of the Trade Act of 1974 (19 U.S.C. 2273) the Department of Labor issued Amended Certification Regarding Eligibility to Apply for Worker Adjustment Assistance on April 23, 2004, applicable to workers of Morganite, Inc., Commutator Division, Dunn, North Carolina. The notice was published in the Federal Register on June 2, 2004 (69 FR 31136).

At the request of the State agency, the Department reviewed the certification for workers of the subject firm. The workers are engaged in the production of commutators for fractional horsepower motors in consumer applications.

New information shows that Morganite, Inc, Commutator Division became known as Energy Conversion Systems Holdings, LLC, Commutator Division, after the subject firms' assets and operations were sold to Energy Conversion Systems Holdings, LLC in June 2004. Workers separated from employment as the subject firm had their wages reported under a separated unemployment insurance (UI) tax account for Energy Conversion Systems Holdings, LLC, Commutator Division.

Accordingly, the Department is amending this certification to properly reflect this matter.

The intent of the Department's certification is to include all workers of Morganite, Inc., Commutator Division, now known as Energy Conversion Systems Holdings LLC, Commutator Division, who were adversely affected by increased imports.

The amended notice applicable to TA-W-54,408 is hereby issued as follows:

All workers of Morganite, Inc., Commutator Division, now known as Energy Conversion Systems Holdings LLC, Commutator Division, Dunn, North Carolina, who became totally or partially separated from employment on or after February 16, 2003, through April 23, 2006, are eligible to apply for adjustment assistance under Section 223 of the Trade Act of 1974.

Signed at Washington, DC this 8th day of April 2005.
Elliott S. Kushner,
Certifying Officer, Division of Trade Adjustment Assistance.

[FR Doc. E5-1943 Filed 4-22-05; 8:45 am]

BILLING CODE 4510-30-P